DEPARTMENT OF STATE

[Public Notice: 11905]

Determination Under Section 610 of the Foreign Assistance Act (FAA) of 1961 To Provide Assistance for International Energy and Climate Security Objectives and for Assistance for the Pacific Islands

Pursuant to the authority vested in me by section 610 of the FAA, and the President's Memorandum of Delegation dated September 16, 2022, I hereby determine that it is necessary for the purposes of the FAA that up to $130,000,000 of FY 2020 Foreign Military Financing funds be transferred to, and consolidated with, the Economic Support Fund account to provide assistance for international energy and climate security objectives ($90 million) and for assistance for the Pacific Islands ($40 million). Such funds are hereby so transferred and consolidated.

This determination shall be reported to Congress and published in the Federal Register.

Dated: September 26, 2022.
Antony J. Blinken,
Secretary of State.

[FR Doc. 2022-23476 Filed 10-27-22; 8:45 am]

BILLING CODE 4710-10-P